DEPARTMENT OF TRANSPORTATION

National Highway Traffic Safety Administration

[Docket No. NHTSA-2005-20569]

Receipt of Applications for Temporary Exemption From a Federal Motor Vehicle Safety Standard

AGENCY: National Highway Traffic Safety Administration (NHTSA), DOT.

ACTION: Notice of receipt of applications for temporary exemptions from a Federal motor vehicle safety standard; request for comments.

SUMMARY: We have received applications from two motorcycle manufacturers (Bajaj and Piaggio) for temporary exemptions from a provision in the Federal motor vehicle safety standard on motorcycle controls and displays specifying that a motorcycle rear brake, if provided, must be controlled by a right foot control. The manufacturers ask that we permit the left handlebar as an alternative location for the rear brake control. Each manufacturer states its belief that “compliance with the standard would prevent the manufacturer from selling a motor vehicle with an overall level of safety at least equal to the overall safety level of nonexempt vehicles.”

We are publishing this notice of receipt of the applications in accordance with our regulations on the subject, and ask for public comment on each application. This publication does not mean that we have made a judgment yet about the merits of the applications.

DATES: You should submit your comments early enough to ensure that Docket Management receives them not later than April 11, 2005.

ADDRESSES: You may submit your comments [identified by the DOT DMS Docket Number cited in the heading of this document] by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

You may call the Docket at 202-366-9324. You may visit the Docket from 10 a.m. to 5 p.m., Monday through Friday, except Federal Holidays.

FOR FURTHER INFORMATION CONTACT: For non-legal issues, you may call Mr. Michael Pyne, Office of Crash Avoidance Standards at (202) 366-4171. His FAX number is (202) 493-2739.

For legal issues, you may call Ms. Dorothy Nakama, Office of the Chief Counsel at (202) 366-2992. Her FAX number is (202) 366-3820.

You may send mail to these officials at National Highway Traffic Safety Administration, 400 Seventh St., SW., Washington, DC 20590.

SUPPLEMENTARY INFORMATION

I. Background

49 U.S.C. 30113(b) provides the Secretary of Transportation the authority to exempt, on a temporary basis, motor vehicles from a motor vehicle safety standard under certain circumstances. The exemption may be renewed, if the vehicle manufacturer reapplies. The Secretary has delegated the authority for Section 30113(b) to NHTSA.

NHTSA has established regulations at 49 CFR part 555, Temporary Exemption from Motor Vehicle Safety and Bumper Standards. Part 555 provides a means by which motor vehicle manufacturers may apply for temporary exemptions from the Federal motor vehicle safety standards on the basis of substantial economic hardship, facilitation of the development of new motor vehicle safety or low-emission engine features, or existence of an equivalent overall level of motor vehicle safety.

Federal Motor Vehicle Safety Standard (FMVSS) No. 123, Motorcycle controls and displays (49 CFR 571.123) specifies requirements for the location, operation, identification, and illumination of motorcycle controls and displays, and requirements for motorcycle stands and footrests. Among other requirements, FMVSS No. 123 specifies that for motorcycles with rear wheel brakes, the rear wheel brakes must be operable through the right foot control, although the left handlebar is permissible for motor-driven cycles (See S5.2.1, and Table 1, Item 11). Motor-driven cycles are motorcycles with motors that produce 5 brake horsepower or less (See 49 CFR 571.3, Definitions.)

On November 21, 2003, NHTSA published in the Federal Register (68 FR 65667) a notice proposing two regulatory alternatives to amend FMVSS No. 123. Each alternative would require that for certain motorcycles without a clutch control lever, the rear brakes must be controlled by a lever located on the left handlebar. We also requested comment on industry practices and plans regarding controls for motorcycles with integrated brakes. If this proposed rule is made final, the left handlebar would be permitted as an alternative location for the rear brake control.

II. Applications for Temporary Exemption from FMVSS No. 123

NHTSA has received applications for temporary exemption from S5.2.1 and Table 1, Item 11 from two motorcycle manufacturers: Bajaj USA LLC (Bajaj); and Piaggio & C. S.p.A. and Piaggio USA, Inc (Piaggio). Bajaj asks for new temporary exemptions for the Reo 150-2 (150cc) (for Model Years (MYs) 2005 and 2006) and Reo 150-18 (150cc). Piaggio asks for new temporary exemptions for the Vespa LX (125 and 150 cc) (for MYs 2005-2006), the Vespa GT250 (for MYs 2005-2006), the Piaggio FLY (125 and 150 cc) (for MYs 2005-2006) and the Piaggio BV (250 and 500 cc) (for MYs 2005-2006). All of these motorcycles are considered “motor scooters.”

The safety issues are identical in the case of all of these motorcycles. Bajaj and Piaggio have applied to use the left handlebar as the location for the rear brake control on their motorcycles whose engines produce more than 5 brake horsepower (all of the motorcycles specified in the previous paragraph). The frames of each of the motorcycles that are the subject of these applications for temporary exemptions have not been designed to mount a right foot operated brake pedal (i.e., these motor scooters have a platform for the feet and operate only through hand controls). Applying considerable stress to this sensitive pressure point of the motor scooter frame by putting on a foot operated brake control could cause failure due to fatigue, unless proper design and testing procedures are performed.

III. Why the Petitioners Claim the Overall Level of Safety of the Motorcycles Equals Or Exceeds That of Non-Exempted Motorcycles

The applicants have argued that the overall level of safety of the motorcycles covered by their petitions equals or exceeds that of a non-exempted motorcycle for the following reasons. Each manufacturer stated that motorcycles for which applications have been submitted are equipped with an automatic transmission. As there is no foot-operated gear change, the operation and use of a motorcycle with an automatic transmission is similar to the operation and use of a bicycle, and the vehicles can be operated without requiring special training or practice. Each manufacturer provided the following additional arguments:

Bajaj—Bajaj gave the following reasons why the Reo motor scooters for which this exemption is sought provide an overall level of safety exceeding the overall level of safety of nonexempt vehicles. Bajaj stated that an important feature of any brake actuation system, lever or pedal is “progressivity,” i.e., the increase of brake actuation force with increasing actuator lever travel. Progressivity of application force is provided by the decrease in the lever ratio as the actuating lever rotates about its pivot and is essential to providing safe, repeatable, and easily interpreted feedback to the rider. Although the foot can apply much more force than can the hand, Bajaj notes that the foot is much less sensitive to travel distance. With the lever/cable operated brake system used on the Reo scooters, there is much more than enough brake actuation force available to the hand “of even the smallest rider.” For the rider to have the same perception of degree of brake lever actuation, and thus braking force with the foot pedal systems, much longer travel distances must be provided. Thus, lever ratios for hand levers and foot pedals must be identical.

On a motorcycle's footrest, the brake pedal is positioned directly beneath the rider's braking foot. When braking, the rider simply lowers the braking foot forward without taking his foot off of the footrest. On a scooter, the brake pedal would be positioned projecting from the platform footrest, but the scooter rider places his feet randomly on the platform.

When braking, the rider needs to lift his braking foot off the platform and place it on the scooter's brake pedal. This entails a fraction of time, but it is this fraction which may be crucial in avoiding a crash. Also, when the scooter rider places his foot on the brake pedal, there is no guarantee that he will place it correctly. Incorrect placement of the foot may cause the scooter rider's foot to slip off the brake pedal, making it difficult to brake completely and correctly, and risking an accident. Finally, the scooter rider, to ensure that he places his foot on the brake pedal, might even take his eyes off the road because of the somewhat awkward movement and insecurity which he senses. The use of the left handlebar for the control for the rear brake on scooters is simply more natural for the scooter rider and much more secure because the rider never takes his eyes off the road and is in a much more controlled position to avoid a possible crash.

Bajaj also stated that an additional benefit is provided by the reduced probability of inadvertent wheel locking in an emergency braking situation that comes from increased sensitivity to brake feedback with the hand lever. Because of the necessarily greater physical size of a foot-powered brake pedal, mechanical efficiency is necessarily lower and inertia about the pivot is higher. This results in less effective feedback, or “feeling” of the actuation system. For the inexperienced rider especially, loss of control because of rear wheel locking is a common accident mode. The hand lever reduces the possibility of rear wheel locking.

Piaggio—Piaggio stated that brake tests in accordance with FMVSS No. 122 Motorcycle brake systems, were conducted on all Vespa and Piaggio models and stated that all models “easily exceed” the performance requirements of FMVSS No. 122. Piaggio also stated that Vespa and Piaggio vehicles fully meet the 93/14 EEC brake testing requirements, and enclosed a copy of the brake testing report of the “Ministero dei Trasporti e della Navigazione” Italy or TUV/VCA.

Piaggio cited several reasons why it believes the left handlebar rear brake actuation force provides an overall level of safety that equals or exceeds a motorcycle with a right-foot rear brake control. Among these reasons, Piaggio cited the “state of the art” hydraulically activated front disc brakes used on Vespa and Piaggio vehicles, as providing more than enough brake actuation force available to the “hand of even the smallest rider.” Piaggio explained that because of the greater physical size of a foot-powered brake pedal, mechanical efficiency is lower and inertia about the pivot is higher. This results in less effective feedback, or what Piaggio describes as “feeling” of the actuation system. Piaggio asserted that because there is more sensitivity to brake feedback from the hand lever, use of a hand lever reduces the probability of inadvertent wheel locking in an emergency braking situation. Piaggio stated that inexperienced riders may lose control of their motorcycle because of rear wheel locking, and that use of the hand lever reduces the possibility of rear wheel locking.

IV. Why Petitioners Claim an Exemption Would Be in the Public Interest and Would Be Consistent With the Objectives of Motor Vehicle Safety

Each manufacturer offered the following reasons why temporary exemptions for their motorcycles would be in the public interest and would be consistent with the objectives of motor vehicle safety:

Piaggio—Piaggio stated that the motor scooters for which exemptions are being sought are “safer in operation than non-exempt vehicles currently being operated in the United States and are intended for low speed urban use.” Piaggio stated its expectation that its vehicles will mostly be used in congested traffic conditions. Piaggio further stated that since the scooters have been designed with rider ergonomics and safety as paramount design parameters, these scooters provide for a much more natural braking response by the rider than do non-exempt vehicles.

Piaggio stated that granting their petition would serve the public interest because their motor scooters provide, in addition to enhanced safety, environmentally clean and fuel efficient, safe, convenient urban transportation. The exhaust, crankcase, and evaporative emissions of the motor scooter's very small engines have been demonstrated to be lower than alternative means of transportation such as large motorcycles. Piaggio concluded that the American consumer will be provided with a broader choice of low-cost, efficient, transportation by the introduction of the Piaggio motor scooters.

Bajaj—Bajaj reiterated Piaggio's statement that the motor scooters for which the exemptions are being sought are “safer in operation than non-exempt vehicles currently being operated in the United States and are intended for low speed urban use.” As did Piaggio, Bajaj stated its expectation that its scooters will mostly be used in congested traffic conditions. Bajaj further stated that since the scooters have been designed with rider ergonomics and safety as paramount design parameters, these scooters provide for a much more natural braking response by the rider than do non-exempt vehicles.

As did Piaggio, Bajaj stated that granting this exemption would serve the public interest because “these motor scooters provide, in addition to enhanced safety, environmentally clean and fuel efficient, safe, convenient urban transportation.” Bajaj stated that the exhaust, crankcase, and evaporative emissions of these motor scooters' very small engines have demonstrated to be lower than alternative means of transportation such as large motorcycles. Bajaj concluded that the American consumer will be provided with a broader range of choice of low-cost, efficient, transportation by the introduction of their motor scooters.

V. Comments

How Do I Prepare and Submit Comments?

Your comments must be written and in English. To ensure that your comments are correctly filed in the Docket, please include the docket number of this document in your comments.

Your comments must not be more than 15 pages long. (49 CFR 553.21). We established this limit to encourage you to write your primary comments in a concise fashion. However, you may attach necessary additional documents to your comments. There is no limit on the length of the attachments.

Please submit two copies of your comments, including the attachments, to Docket Management at the address given above under ADDRESSES.

You may also submit your comments to the docket electronically by logging onto the Dockets Management System Web site at http://dms.dot.gov. Click on “Help & Information” or “Help/Info” to obtain instructions for filing the document electronically.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR part 512.)

Will the Agency Consider Late Comments?

We will consider all comments that Docket Management receives before the close of business on the comment closing date indicated above under DATES. To the extent possible, we will also consider comments that Docket Management receives after that date.

How Can I Read the Comments Submitted by Other People?

You may read the comments received by Docket Management at the address given above under ADDRESSES. The hours of the Docket are indicated above in the same location.

You may also see the comments on the Internet. To read the comments on the Internet, take the following steps:

1. Go to the Docket Management System (DMS) Web page of the Department of Transportation (http://dms.dot.gov/).

2. On that page, click on “search.”

3. On the next page (http://dms.dot.gov/search/), type in the four-digit docket number shown at the beginning of this document. Example: If the docket number were “NHTSA-1998-1234,” you would type “1234.” After typing the docket number, click on “search.”

4. On the next page, which contains docket summary information for the docket you selected, click on the desired comments. You may download the comments. Although the comments are imaged documents, instead of word processing documents, the “pdf” versions of the documents are word searchable.

Please note that even after the comment closing date, we will continue to file relevant information in the Docket as it becomes available. Further, some people may submit late comments. Accordingly, we recommend that you periodically check the Docket for new material.

How Does the Federal Privacy Act Apply to My Public Comments?

Anyone is able to search the electronic form of all comments received into any of our dockets by the name of the individual submitting the comment (or signing the comment, if submitted on behalf of an association, business, labor union, etc.). You may review DOT's complete Privacy Act Statement in the Federal Register published on April 11, 2000 (Volume 65, Number 70; pages 19477-78) or you may visit http://dms.dot.gov.

Authority: 49 U.S.C. Section 30113; delegations of authority at 49 CFR 1.50 and 501.4.

Issued on: March 4, 2005.
Stephen R. Kratzke,
Associate Administrator for Rulemaking.

[FR Doc. 05-4754 Filed 3-9-05; 8:45 am]

BILLING CODE 4910-59-P